DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to a request from Georgia Transmission Corporation for assistance from RUS to finance the construction of a 115 kV electric substation in Ben Hills County, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: Georgia Transmission Corporation proposes to construct a 115 kV substation approximately 2 miles south of the City of Fitzgerald in southwest Ben Hill County. The proposed substation site is approximately 1,200 feet east of Perry House Road along an existing 115 kV electric transmission line. The proposed substation is to be identified as the Lake Beatrice Station. The property where the substation is to be located is approximately 24.5 acres of which approximately 8 acres will be disturbed for construction of the substation.

Copies of the FONSI are available for review at, or can be obtained from, RUS at the address provided herein or from Mr. John Lasseter, Georgia Transmission Corporation, 2100 East Exchange Place, Tucker, Georgia 30085-2088, telephone (770) 270-7710. Mr. Lasseter's e-mail address is john.lasseter@gatrans.com.

Dated: April 16, 2003.
Blaine D. Stockton,
Assistant Administrator, Electric Program.

[FR Doc. 03-9881 Filed 4-21-03; 8:45 am]

BILLING CODE 3410-15-P